NUCLEAR REGULATORY COMMISSION

[NRC-2011-0055]

Economic Simplified Boiling Water Reactor Standard Design: GE Hitachi Nuclear Energy; Issuance of Final Design Approval

The U.S. Nuclear Regulatory Commission has issued a final design approval (FDA) to GE Hitachi Nuclear Energy (GEH) for the economic simplified boiling water reactor (ESBWR) standard design under Subpart E, “Standard Design Approvals,” of Title 10 of the Code of Federal Regulations (10 CFR) part 52, “Licenses, Certifications, and Approvals for Nuclear Power Plants.” This FDA allows the ESBWR standard design to be referenced in an application for a construction permit or operating license under 10 CFR part 50, “Domestic Licensing of Production and Utilization Facilities,” or an application for a combined license or manufacturing license under 10 CFR part 52. In addition, the Commission has issued the final safety evaluation report (FSER) (Agencywide Documents Access and Management System (ADAMS) Accession No. ML102850376) that supports issuance of the FDA.

Issuance of this FDA signifies completion of the NRC staff's technical review of GEH's ESBWR design. The NRC staff performed its technical review of the ESBWR design control document in accordance with the standards for review of standard design approval applications set forth in 10 CFR 52.139, “Standards for Review of Applications,” as modified by the exemptions identified in Section 1.8 of the NRC's FSER.

On the basis of its evaluation and independent analyses, as described in the FSER, the NRC staff concludes that GEH's application for standard design approval meets the applicable portions of 10 CFR 52.137, “Content of Applications; Technical Information,” and the review standards identified in 10 CFR 52.139, except for those review standards subject to the exemptions identified in Section 1.8 of the FSER.

Copies of the ESBWR FSER and FDA have been placed in the NRC's Public Document Room, One White Flint North, 11555 Rockville Pike, Rockville, MD 20852, for review and copying by interested persons.

Dated at Rockville, Maryland, this 9th day of March 2011.
For the Nuclear Regulatory Commission.
David B. Matthews,
Director, Division of New Reactor Licensing, Office of New Reactors.

[FR Doc. 2011-6129 Filed 3-15-11; 8:45 am]

BILLING CODE 7590-01-P